DEPARTMENT OF LABOR

Office of the Chief Financial Officer

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of the Chief Financial Officer is soliciting comments concerning the proposed extension of Department of Labor regulations implementing various provisions of the Debt Collection Act of 1982, including Disclosure of Information to Credit Reporting Agencies; Administrative Offset; Interest, Penalties and Administrative Costs.

DATES: Written comments must be submitted to the office listed in the addressee section below on or before June 26, 2000.

ADDRESSES: Comments are to be submitted in writing to Mark Wolkow, Department of Labor, Office of the Chief Financial Officer, Room S-4502 Frances Perkins Building, 200 Constitution Ave. NW, Washington, D.C. 20210; via fax to 202-219-4975; or via email to wolkow-mark@dol.gov.

FOR FURTHER INFORMATION CONTACT: Mark Wolkow, Division of Policy and Internal Control at 202-219-8184 x127, or via email at wolkow-mark@dol.gov.

SUPPLEMENTARY INFORMATION:

I. Background

The Debt Collection Act of 1982 and the Federal Claims Collection Standards, as implemented in the Department by 29 CFR Part 20, require Federal agencies to afford debtors the opportunity to exercise certain rights before the agency reports a debt to a credit bureau or makes an administrative offset. In the exercise of these rights, the debtor may be asked to provide a written explanation of the basis for disputing the amount or existence of a debt alleged owed the agency. A debtor may also be required to provide asset, income, liability, or other information necessary for the agency to determine the debtor's ability to repay the debt, including any interest, penalties and administrative costs assessed.

Information provided by the debtor will be evaluated by the agency official responsible for collection of the debt in order to reconsider his/her initial decision with regard to the existence or amount of the debt. Information concerning the debtor's assets, income, liabilities, etc., will be used by the agency official responsible for collection of the debt to determine whether the agency's action with regard to administrative offset or the assessment of interest, administrative costs or penalties would create undue financial hardship for the debtor, or to determine whether the agency should accept the debtor's proposed repayment schedule.

If a debtor disputes or asks for reconsideration of the agency's determination concerning the debt, the debtor will be required to provide the information or documentation necessary to state his/her case. Presumably, the agency's initial determination would not change without the submission of new information.

Information concerning the debtor's assets, income, liabilities, etc., would typically not be available to the agency unless submitted by the debtor.

II. Desired Focus of Comments

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., EA permitting electronic submissions of responses.

III. Current Actions

Failure of the agency to request the information described would either violate the debtor's rights under the Debt Collection Act of 1982 or limit the agency's ability to collect outstanding debts.

If a debtor wishes to appeal an agency action based on undue financial hardship, he/she may be asked to submit information on his/her assets, income, liabilities, or other information considered necessary by the agency official for evaluating the appeal. Use of the information will be explained to the debtor when it is requested; consent to use the information for the specified purpose will be implied from the debtor's submission of the information.

IV. Type of Review: Extension without change.

V. Agency: Office of the Chief Financial Officer.

VI. Title: Disclosure of Information to Credit Reporting Agencies; Administrative Offset; Interest penalties and Administrative Costs.

VII. OMB Number: 1225-0030.

VIII. Affected Public: Individuals or households; businesses or other for-profit; not-for-profit institutions; small business or organizations; farms; Federal employees.

IX. Cite/Reference/Form/etc: It is estimated that 10% of the individuals and organizations indebted to the Department will contest the proposed collection action and will request an administrative review and/or appeal an action based on undue financial hardship. In some cases the debtor will make one request, but not the other. However, in most cases, it is expected that the debtor will request both actions—first, administrative review of the determination of indebtedness, and second, relief because of undue financial hardship.

Annual burden was estimated based on a review of debtor responses to similar requests for information. Debtors typically respond in 1-2 page letters, supplemented by copies of documents. Letters are most often typewritten. Annual burden is based on a 1¾ hour time allotment to prepare and type a letter. Debtors will not be asked to respond on a form.

X. Estimated Total Burden Hours: 12,250.

XI. Estimated Total Burden Cost:

Estimated annual cost to the Federal Government: $757,050.

Estimated annual cost to the respondents: $258,720.

Comments submitted in response to this comment request will be summarized and/or included in the request for Office of Management and Budget approval of the information collection request; they will also become a matter of public record.

Dated: April 20, 2000.
Kenneth Bresnahan,
Chief Financial Officer.

[FR Doc. 00-10384 Filed 4-25-00; 8:45 am]

BILLING CODE 4510-23-P